DEPARTMENT OF ENERGY

Federal Energy Regulatory Commission

18 CFR Part 40

[Docket Nos. RM06-8-000 and AD05-7-000]

Long-Term Firm Transmission Rights in Organized Electricity Markets; Long-Term Transmission Rights in Markets Operated by Regional Transmission Organizations and Independent System Operators; Notice of Extension of Time

March 2, 2006.

AGENCY: Federal Energy Regulatory Commission, DOE.

ACTION: Notice of proposed rulemaking; extension of comment period.

SUMMARY: On February 2, 2006, the Commission issued a Notice of Proposed Rulemaking which proposed to amend its regulations to require transmission organizations that are public utilities with organized electricity markets to make available long-term firm transmission rights that satisfy certain guidelines established in this proceeding. 71 FR 6693 (Feb. 9, 2006). The Commission is extending the date for filing reply comments on the proposed rule at the request of the American Public Power Association, the National Rural Electric Cooperative Association and the Transmission Access Policy Study Group.

DATES: The comment period for the proposed rule published at 71 FR 6693, February 9, 2006, is extended to April 3, 2006.

FOR FURTHER INFORMATION CONTACT: Jeffery S. Dennis (Legal Information), Office of the General Counsel, Federal Energy Regulatory Commission, 888 First Street, NE., Washington, DC 20426. (202) 502-6027.

SUPPLEMENTARY INFORMATION: On February 27, 2006, the American Public Power Association (APPA), the National Rural Electric Cooperative Association (NRECA), and the Transmission Access Policy Study Group (TAPS) filed a joint motion for an extension of time to file reply comments in response to the Commission's Notice of Proposed Rulemaking (NOPR) issued February 2, 2006, in the above-docketed proceeding. Long-Term Firm Transmission in Organized Electricity Markets, 114 FERC ¶ 61,097 (2006). The motion states that due to the complexity of the issues addressed in the NOPR and the substantive number of initial comments that were filed in this docket, additional time is needed to prepare reply comments.

Upon consideration, notice is hereby given that an extension of time for filing reply comments is granted to and including April 3, 2006, as requested by APPA, NRECA and TAPS.

The Commission will publish a separate notice in the Federal Register announcing the extension of time to file reply comments in this proceeding.

Magalie R. Salas,
Secretary.

[FR Doc. E6-3286 Filed 3-7-06; 8:45 am]

BILLING CODE 6717-01-P